DEPARTMENT OF LABOR

Occupational Safety and Health Administration

Advisory Committee on Construction Safety and Health (ACCSH); Notice of Renewal of Charter

AGENCY: Occupational Safety and Health Administration (OSHA), Labor.

ACTION: Notice of Renewal of ACCSH Charter.

SUMMARY: In accordance with the provisions of the Federal Advisory Committee Act (FACA), as amended (5 U.S.C., App. 2), and its implementing regulations (41 CFR 102-3, Federal Advisory Committee Management), the Secretary of Labor has determined that the renewal of the Charter for the Advisory Committee on Construction Safety and Health (ACCSH) is necessary and in the public interest. Accordingly, the U.S. Department of Labor, Occupational Safety and Health Administration (OSHA) has renewed the ACCSH Charter with several minor revisions. The revisions relate to procedural matters which do not substantively affect the objectives or activities of the ACCSH Committee. The ACCSH Charter will expire on May 6, 2010.

FOR FURTHER INFORMATION CONTACT: Mr. Joseph Hajdusiewicz, Office of Construction Service, Directorate of Construction, Occupational Safety and Health Administration, U.S. Department of Labor, Room N-3468, 200 Constitution Avenue, NW., Washington, DC 20210; Telephone: (202) 693-2020 or Facsimile: (202) 693-1689.

SUPPLEMENTARY INFORMATION:

I. Background

The Committee will advise the Assistant Secretary of Labor for Occupational Safety and Health in the formulation of construction safety and health standards under the Contract Work Hours and Safety Standards Act (40 U.S.C. 3701 et seq.), commonly known as the Construction Safety Act (CSA), and the Occupational Safety and Health Act of 1970 (OSH Act) (29 U.S.C. 651 et seq.). The ACCSH also provides advice on the administration of the safety and health provisions of the CSA (29 CFR 1912.5(c)).

Under OSHA regulations (29 CFR 1912.3), the ACCSH is composed of 15 members appointed by the Assistant Secretary as follows: One member who is a designee of the Secretary of Health and Human Services; five members who are qualified by experience and affiliation to represent the viewpoint of employers involved in construction; five members, similarly qualified, to represent the viewpoint of the employees involved in construction, two members who are representatives of State safety and health agencies; and two members who are qualified by knowledge and experience to represent the general public and to make a useful contribution to the work of the Committee. One of the members is appointed to serve as the Committee chair. Members generally serve two-year staggered terms except for the designee of the Secretary of Health and Human Services who has no fixed term. Members may be appointed to serve successive terms or may be removed at any time and replaced. If otherwise qualified, a member may continue to serve after his or her term expires, until successors are appointed.

The ACCSH charter is required to be renewed every two years. The current charter was to have expired on July 3, 2008. In light of the Committee's past contribution toward OSHA's construction safety and health mission, OSHA has determined that renewal of the charter for another two years is necessary and in the public interest. In addition to the renewal, OSHA has amended the charter to address procedural matters in the following sections: the Objectives and Scope of Activity section was amended to include references to the Federal Advisory Committee Act to be consistent with the Department's procedures; the Membership section was amended to more accurately reflect Committee members' terms of service, the Estimated Annual Operating Costs in Dollars and Staff Years section was amended to reflect increases in the Committee's annual budget ($152,000 to $180,000) to account for increased costs for travel, logistical and conference support for the Committee and its workgroup meetings; and the Meetings section was amended to reflect that the Committee is generally expected to meet between two and four times per year.

II. Authority and Signature

Edwin G. Foulke, Jr., Assistant Secretary of Labor for Occupational Safety and Health, directed the preparation of this notice. The authority for this notice is granted by section 7 of the Occupational Safety and Health Act of 1970 (29 U.S.C. 656), section 107 of the Contract Work Hours and Safety Standards Act (Construction Safety Act) (40 U.S.C. 3701 et seq.), 29 CFR 1911 and 1912, and Secretary of Labor's Order No. 5-2007 (72 FR 31159).

Signed at Washington, DC on August 14th, 2008.
Edwin G. Foulke, Jr.
Assistant Secretary of Labor for Occupational Safety and Health.

[FR Doc. E8-19444 Filed 8-21-08; 8:45 am]

BILLING CODE 4510-26-P